DEPARTMENT OF THE TREASURY

Office of Thrift Supervision

[AC-59: OTS No. H-4761]

Franklin Financial Corporation, Inc., Glen Allen, VA; Approval of Conversion Application

Notice is hereby given that on February 11, 2011, the Office of Thrift Supervision approved the application of Franklin Financial Corporation MHC and Franklin Federal Savings Bank, Glen Allen, Virginia, to convert to the stock form of organization. Copies of the application are available for inspection by appointment (phone number: 202-906-5922 or e-mail Public.Info@OTS.Treas.gov) at the Public Reading Room, 1700 G Street, NW., Washington, DC 20552, and the OTS Southeast Regional Office, 1475 Peachtree Street, NE., Atlanta, Georgia 30309.

Dated: February 11, 2011.
By the Office of Thrift Supervision.
Sandra E. Evans,
Federal Register Liaison.

[FR Doc. 2011-3656 Filed 2-17-11; 8:45 am]

BILLING CODE 6720-01-M